FEDERAL DEPOSIT INSURANCE CORPORATION

Notice of Termination, 10362, First National Bank of Central Florida; Winter Park, Florida

The Federal Deposit Insurance Corporation (FDIC), as Receiver for 10362, First National Bank of Central Florida, Winter Park, Florida (Receiver) has been authorized to take all actions necessary to terminate the receivership estate of First National Bank of Central Florida (Receivership Estate); the Receiver has made all dividend distributions required by law.

The Receiver has further irrevocably authorized and appointed FDIC-Corporate as its attorney-in-fact to execute and file any and all documents that may be required to be executed by the Receiver which FDIC-Corporate, in its sole discretion, deems necessary; including but not limited to releases, discharges, satisfactions, endorsements, assignments and deeds.

Effective May 1, 2016, the Receivership Estate has been terminated, the Receiver discharged, and the Receivership Estate has ceased to exist as a legal entity.

Dated: May 2, 2016.
Federal Deposit Insurance Corporation.
Robert E. Feldman,
Executive Secretary.

[FR Doc. 2016-10569 Filed 5-4-16; 8:45 am]

BILLING CODE 6714-01-P